DEPARTMENT OF ENERGY

Federal Energy Regulatory Commission

18 CFR Part 284

[Docket No. RM96-1-037]

Standards for Business Practices for Interstate Natural Gas Pipelines

AGENCY: Federal Energy Regulatory Commission, DOE.

ACTION: Request for additional comment.

SUMMARY: On February 22, 2012, the Commission published in the Federal Register a Notice of Proposed Rulemaking (77 FR 10415) (NOPR) proposing to amend its regulations to incorporate by reference the latest version (Version 2.0) of business practice standards adopted by the Wholesale Gas Quadrant of the North American Energy Standards Board (NAESB) applicable to natural gas pipelines. The Commission, however, did not propose to adopt two standards it found inconsistent with its regulations. Among the comments filed with the Commission were comments from NAESB explaining that its Wholesale Gas Quadrant Executive Committee was in the process of voting on two standards to rectify the inconsistency noted in the NOPR by the Commission. On May 4, 2012, NAESB filed a status report informing the Commission that it had finalized the two corrections.

The Commission is providing interested parties an opportunity to file comments with respect to the two corrected standards adopted by NAESB and whether the Commission should incorporate these revised standards into its regulations.

DATES: Comments are due June 4, 2012.

ADDRESSES: You may submit reply comments, identified by Docket No. RM96-1-037, by any of the following methods:

• Agency Web Site: http://www.ferc.gov. Documents created electronically using word processing software should be filed in native applications or print-to-PDF format and not in a scanned format.

• Mail/Hand Delivery: Commenters unable to file comments electronically must mail or hand deliver an original of their comments to: Federal Energy Regulatory Commission, Office of the Secretary, 888 First Street NE., Washington, DC 20426.

FOR FURTHER INFORMATION CONTACT:

Adam Bednarczyk (technical issues), Office of Energy Market Regulation, Federal Energy Regulatory Commission, 888 First Street NE., Washington, DC 20426, (202) 502-6444, Email: adam.bednarczyk@ferc.gov.

Tony Dobbins (technical issues), Office of Energy Policy and Innovation, Federal Energy Regulatory Commission, 888 First Street NE., Washington, DC 20426, (202) 502-6630, Email: tony.dobbins@ferc.gov.

Gary D. Cohen (Legal Information), Office of the General Counsel, Federal Energy Regulatory Commission, 888 First Street NE., Washington, DC 20426, Telephone: (202) 502-8321, Email: gary.cohen@ferc.gov.

SUPPLEMENTARY INFORMATION:

Request for Additional Comments

May 8, 2012

On February 16, 2012, the Commission issued a Notice of Proposed Rulemaking (NOPR) ¹ proposing to amend its regulations at 18 CFR 284.12 to incorporate by reference the latest version (Version 2.0) of business practice standards adopted by the Wholesale Gas Quadrant of the North American Energy Standards Board (NAESB) applicable to natural gas pipelines. The Commission, however, did not propose to adopt two standards it found inconsistent with its regulations.

¹ Standards for Business Practices for Interstate Natural Gas Pipelines, notice of proposed rulemaking, 77 FR 10415 (Feb. 22, 2012), FERC Stats. & Regs. ¶ 32,686 (Feb. 16, 2012).

Among the comments filed with the Commission in this proceeding were comments from NAESB explaining that NAESB's Wholesale Gas Quadrant Executive Committee was in the process of voting on minor corrections to NAESB WGQ Standard Nos. 0.3.19 and 0.3.21 to rectify the inconsistency noted in the NOPR by the Commission. On May 4, 2012, NAESB filed a status report informing the Commission that it had finalized the two corrections.

The Commission is providing interested parties an opportunity to file comments with respect to the two corrected standards adopted by NAESB and whether the Commission should incorporate the version of the standards that reflects these corrections into its regulations.

By this notice, additional comments should be filed on or before June 4, 2012.

Dated: May 8, 2012.
Kimberly D. Bose,
Secretary.

[FR Doc. 2012-11569 Filed 5-11-12; 8:45 am]

BILLING CODE 6717-01-P